DEPARTMENT OF COMMERCE

International Trade Administration

[A-428-802; A-475-802; A-559-802; A-588-807]

Industrial Belts from Germany, Italy, Singapore, and Japan; Corrected Final Results of Expedited Sunset Reviews

AGENCY: Import Administration, International Trade Administration, Department of Commerce.

ACTION: Notice of correction to final results of expedited sunset reviews: industrial belts from Germany, Italy, Singapore, and Japan.

SUMMARY: On December 30, 1999, the Department of Commerce (“the Department”) published in the Federal Register (64 FR 73511) the final results of the June 1999 sunset reviews of the antidumping duty orders on industrial belts from Germany, Italy, Singapore, and Japan. Subsequent to the publication of the final results, we identified an inadvertent error in the “Scope” section of the notice. Therefore, we are correcting and clarifying this error.

On page 73511, the error lies in the following sentence: “The merchandise covered by the antidumping duty orders on Germany and Japan includes industrial belts other than V-belts and synchronous belts used for power transmission, in part or wholly of rubber or plastic, and containing textile fiber (including glass fiber) or steel wire, cord or strand, and whether in endless (i.e. closed loops) belts, or in belting lengths or links from Germany and Japan.” This sentence should be replaced with: “The merchandise covered by the antidumping duty order on Germany includes industrial belts, other than V-belts and synchronous belts used for power transmission, in part or wholly of rubber or plastic, and containing textile fiber (including glass fiber) or steel wire, cord or strand, and whether in endless (i.e. closed loops) belts, or in belting lengths or links.¹

¹ See Antidumping Duty Order of Sales at Less Than Fair Value; Industrial Belts and Components and Parts Thereof, Whether Cured or Uncured, From the Federal Republic of Germany, 54 FR 25316 (June 14, 1989).

Further, we are inserting the following sentence, which was inadvertently left out: “The antidumping duty order on imports from Japan covers industrial V-belts and synchronous belts and other industrial belts, in part or wholly of rubber or plastic, and containing textile fiber (including glass fiber) or steel wire, cord or strand, and whether in endless (i.e., closed loops) belts, or in belting in lengths or links.” ²

² See Industrial Belts and Components and Parts Thereof, Whether Cured or Uncured , From Japan; Final Results of Antidumping Duty Administrative Review, 60 FR 39929 (August 4, 1995).

EFFECTIVE DATE: April 10, 2000.

FOR FURTHER INFORMATION CONTACT: Kathryn B. McCormick or Carole A. Showers, Office of Policy for Import Administration, International Trade Administration, U.S. Department of Commerce, 14th Street & Constitution Avenue, NW, Washington, D.C. 20230: telephone (202) 482-1930 and (202) 482-3217, respectively.

This correction is issued and published in accordance with sections 751(h) and 777(i) of the Act.

Dated: April 4, 2000.
Joseph A. Spetrini,
Acting Assistant Secretary for Import Administration.

[FR Doc. 00-8820 Filed 4-7-00; 8:45 am]

BILLING CODE 3510-DS-P